DEPARTMENT OF JUSTICE

Office of Justice Programs

[OMB Number 1121-0270]

Bureau of Justice Assistance; Agency Information Collection Activities: Extension of a Currently Approved Collection; Comments Requested

Action: 30-day notice of information collection under review: Bureau of Justice Assistance application form: Southwest Border Prosecution Initiative

The Department of Justice (DOJ), Office of Justice Programs (OJP) will be submitting the following information collection request to the Office of Management and Budget (OMB) for review and approval in accordance with the Paperwork Reduction Act of 1995. The proposed collection information is published to obtain comments from the public and affected agencies. This proposed information collection was previously published in the Federal Register [Volume nn, Number nnn, page nnnnn on month, day, year,] allowing for a 60-day comment period. The purpose of this notice is to allow for an additional 30 days for public comment until September 23, 2009. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20530.

Additionally, comments may be submitted to OMB via facsimile to (202) 395-7285. Comments may also be submitted to M. Berry, Bureau of Justice Assistance, Office of Justice Programs, U.S. Department of Justice, 810 7th Street, NW., Washington, DC., 20531 via e-mail at M.A.Berry@ojp.usdoj.gov or by facsimile at (202) 305-1367.

Written comments and/or suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection:

(2) The title of the form/collection: Bureau of Justice Assistance Application Form for the Southwest Border Prosecution Initiative.

(3) The agency form number, if any, and the applicable component of the Department sponsoring the collection: None.

(4) Affected public who will be asked or required to respond, as well as a brief abstract: Primary: State, Local or Tribal government.

Other: None.

Abstract: The Southwest Border Prosecutor Initiative was enacted in FY 2002 to reimburse state, county, parish, or municipal governments for the costs associated with the prosecution of criminal cases declined by local U.S. Attorneys. Each year, hundreds of criminal cases resulting from federal arrests are referred to local prosecutors to handle when the cases fall below certain monetary, quantity, or severity thresholds. This places additional burdens on local government resources that are already stretched by the demands of prosecuting violations of local and state laws. This program provides funds to eligible jurisdictions in the four southwest border states, using a uniform payment-per-case basis for qualifying federally initiated and declined-referred criminal cases that were disposed of after October 1, 2001. Up to 220 eligible jurisdictions may apply. This includes county governments and the four state governments in Arizona, California, New Mexico, and Texas.

(5) An estimate of the total number of respondents and the amount of time estimated for an average respondent to respond/reply: It is estimated that no more than 220 respondents will apply. Each application takes approximately 60 minutes to complete and is submitted 4 times per year (quarterly).

(6) An estimate of the total public burden (in hours) associated with the collection: The total hour burden to complete the applications is 880 hours (880 applications (220 × 4 times a year) × 60 minutes per application = 52,800/60 minutes per hour = 880 burden hours).

If additional information is required contact: Lynn Bryant, Department Clearance Officer, United States Department of Justice, Policy and Planning Staff, Justice Management Division, 601 D Street, NW., Washington, DC 20530.

Dated: August 18, 2009.
Lynn Bryant,
Department Clearance Officer, PRA, United States Department of Justice.

[FR Doc. E9-20267 Filed 8-21-09; 8:45 am]

BILLING CODE 4410-18-P